COMMISSION ON CIVIL RIGHTS

Wednesday, February 11, 2009; Commisson Meeting; Via Teleconference; Public Dial In—1-800-597-7623; Conference Id# 83711892; 11 A.M. Est TDD: 202-376-8116

For questions or additonal assistance to persons with diabilities, please contact Pamela Dunston at 202-376-8105

Meeting Agenda

I. Approval of Agenda

II. Program Planning

• FY 2009 Statutory Report

III. Agenda Items

IV. Adjourn

FOR FURTHER INFORMATION CONTACT: Lenore Ostrowsky, Acting Chief, Public Affairs Unit (202) 376-8582.

Dated: February 4, 2009.
Emma Monroig,
Solicitor.

[FR Doc. E9-2654 Filed 2-4-09; 8:45 am]

BILLING CODE 6335-01-P